NUCLEAR REGULATORY COMMISSION

[NRC-2015-0091]

Quality Group Classifications and Standards for Water-, Steam-, and Radioactive-Waste-Containing Components of Nuclear Power Plants

AGENCY: Nuclear Regulatory Commission.

ACTION: Draft regulatory guide; request for comment.

SUMMARY: The U.S. Nuclear Regulatory Commission (NRC) is issuing for public comment draft regulatory guide (DG) DG-1314, “Quality Group Classifications and Standards forWater-, Steam-, and Radioactive-Waste-Containing Components of Nuclear Power Plants.” This guidance has been revised to update references to related NRC guidance, to incorporate lessons learned from recent NRC reviews and regulatory activities, and to align the format and content of the guide with the current program guidance for regulatory guides (RGs) which was developed since Revision 4 of RG 1.26 was issued.

DATES: Submit comments by June 15, 2015. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods (unless this document describes a different method for submitting comments on a specified subject):

• Federal Rulemaking Web site: Go to http://www.regulations.gov and search for Docket ID NRC-2015-0091. Address questions about NRC dockets to Carol Gallagher; telephone: 301-415-3463; email: Carol.Gallagher@nrc.gov. For technical questions, contact the individual(s) listed in the FOR FURTHER INFORMATION CONTACT section of this document.

• Mail comments to: Cindy Bladey, Office of Administration, Mail Stop: O12H08M, U.S. Nuclear Regulatory Commission, Washington, DC 20555-0001.

For additional direction on accessing information and submitting comments, see “Obtaining Information and Submitting Comments” in the SUPPLEMENTARY INFORMATION section of this document.

FOR FURTHER INFORMATION CONTACT: Sardar Ahmed, telephone: 301-415-2836, email: Sardar.Ahmed@nrc.gov or Stephen Burton, telephone: 301-415-7000, email: Stephen.Burton@nrc.gov. Both are staff of the U.S. Nuclear Regulatory Commission, Washington, DC 20555-0001.

SUPPLEMENTARY INFORMATION:

I. Obtaining Information and Submitting Comments

A. Obtaining Information

Please refer to Docket ID NRC-2015-0091 when contacting the NRC about the availability of information regarding this document. You may obtain pubically-available information related to this document, by any of the following methods:

• Federal Rulemaking Web site: Go to http://www.regulations.gov and search for Docket ID NRC-2015-0091.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. The DG is electronically available in ADAMS under Accession No. ML14356A249.

• NRC's PDR: You may examine and purchase copies of public documents at the NRC's PDR, Room O1-F21, One White Flint North, 11555 Rockville Pike, Rockville, Maryland 20852.

B. Submitting Comments

Please include Docket ID NRC-2015-0091 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a DG in the NRC's “Regulatory Guide” series. This series was developed to describe and make available to the public such information as methods that are acceptable to the NRC staff for implementing specific parts of the NRC's regulations, techniques that the staff uses in evaluating specific problems or postulated accidents, and data that the staff needs in its review of applications for permits and licenses.

The DG, entitled, “Quality Group Classifications and Standards forWater-, Steam-, and Radioactive-Waste-Containing Components of Nuclear Power Plants,” is temporarily identified by its task number, DG-1314. This DG-1314 is proposed revision 5 of RG 1.26. The guide describes a quality classification system related to specified national standards that may be used to determine quality standards acceptable to the staff of the NRC for satisfying General Design Criterion 1, “Quality Standards and Records,” as set forth in appendix A, “General Design Criteria for Nuclear Power Plants,” to part 50 of Title 10 of the Code of Federal Regulations (10 CFR), “Licensing of Production and Utilization Facilities,” for components containing water, steam, or radioactive material in light-water-cooled nuclear power plants.

This guidance has been revised to update references to related guidance, to incorporate lessons learned from recent reviews and regulatory activities, and to align the format and content of the guide with the current program guidance for regulatory guides since Revision 4 of RG 1.26 was issued.

III. Backfitting and Issue Finality

This draft regulatory guide may be used by applicants for construction permits and operating licenses under 10 CFR part 50, and early site permits, standard design certifications, standard design approvals, and combined licenses under 10 CFR part 52. Holders of construction permits, operating licenses, early site permits, standard design approvals, and combined licenses, and applicants for standard design certifications after the NRC issues a final design certification rule may also use the guidance in this draft regualtory guide, if finalized.

This DG, if finalized, would not constitute backfitting as defined in 10 CFR 50.109 (the Backfit Rule) and would not otherwise be inconsistent with the issue finality provisions in 10 CFR part 52. As discussed in the “Implementation” section of this DG, the NRC has no current intention to impose this DG on current holders of operating licenses or combined licenses.

This DG, if finalized, may be applied to applications for operating licenses and combined licenses docketed by the NRC as of the date of issuance of the final RG, as well as future applications for operating licenses and combined licenses submitted after the issuance of the RG. Such action does not constitute backfitting as defined in 10 CFR 50.109(a)(1) or is otherwise inconsistent with the applicable issue finality provision in 10 CFR part 52, inasmuch as such applicants or potential applicants, with exceptions not applicable here, are not within the scope of entities protected by the Backfit Rule or the relevant issue finality provisions in part 52.

The exceptions to the general principle are applicable whenever an applicant references a part 52 license (e.g., an early site permit) and/or NRC's regulatory approval (e.g., a design certification rule) with specified issue finality provisions. The staff does not, at this time, intend to impose the positions represented in this regulatory guide in a manner that is inconsistent with any of the issue finality provisions applicable to early site permits (10 CFR 52.39), design certifications (10 CFR 52.63), or combined license applications referencing an early site permit (10 CFR 52.83). If, in the future, the staff seeks to impose a position in this regulatory guide in a manner which does not provide issue finality as described in the applicable issue finality provision, then the staff must make address the criteria for avoiding issue finality as described applicable issue finality provision.

Dated at Rockville, Maryland, this 10th day of April 2015.
For the Nuclear Regulatory Commission.
Thomas H. Boyce,
Chief, Regulatory Guidance and Generic Issues Branch, Division of Engineering, Office of Nuclear Regulatory Research.

[FR Doc. 2015-08739 Filed 4-15-15; 8:45 am]

BILLING CODE 7590-01-P